DEPARTMENT OF COMMERCE

National Oceanic and Atmospheric Administration

Agency Information Collection Activities; Submission to the Office of Management and Budget (OMB) for Review and Approval; Comment Request; NOAA Dr. Nancy Foster Scholarship Program

AGENCY: National Oceanic & Atmospheric Administration (NOAA), Commerce.

ACTION: Notice of information collection, request for comment.

SUMMARY: The Department of Commerce, in accordance with the Paperwork Reduction Act of 1995 (PRA), invites the general public and other Federal agencies to comment on proposed and continuing information collections, which helps us assess the impact of our information collection requirements and minimize the public's reporting burden. The purpose of this notice is to allow for 60 days of public comment preceding submission of the information collection request to OMB for review and approval.

DATES: To ensure consideration, comments regarding this proposed information collection must be received on or before November 20, 2023.

ADDRESSES: Interested persons are invited to submit written comments to Adrienne Thomas, NOAA PRA Officer, at NOAA.PRA@noaa.gov. Please reference OMB Control Number 0648-0432 in the subject line of your comments. Do not submit Confidential Business Information or otherwise sensitive or protected information.

FOR FURTHER INFORMATION CONTACT: Requests for additional information or specific questions related to collection activities should be directed to Seaberry Nachbar, NOAA Dr. Nancy Foster Scholarship Program Manager, NOAA, 99 Pacific Street, Monterey, CA 93940, 831-647-4204, Seaberry.Nachbar@noaa.gov.

SUPPLEMENTARY INFORMATION:

I. Abstract

This is a request for extension of an existing information collection.

NOAA's Office of National Marine Sanctuaries administers the Dr. Nancy Foster Scholarship Program, authorized by 16 U.S.C. 1445c-1 and 16 U.S.C. 1445, recognizes outstanding achievement in master's and doctoral degrees in oceanography, marine biology, or maritime archaeology—this can include but is not limited to ocean and/or coastal: engineering, social science, marine education, marine stewardship, resource management disciplines—and particularly to encourage women and members of minority groups to apply. The scholarship supports independent graduate level research through financial support of graduate degrees in such fields. Gender and minority status are not considered when selecting award recipients. However, special outreach efforts are employed to solicit applications from women and members of minority groups. Scholarships are distributed by disciplines, institutions, and geography, and by degree sought, with selections within distributions based on financial need, the potential for success in a graduate level studies program (academic achievement), and the potential for achieving research and career goals. Data collection in the form of a full application, letters of recommendation, grade point average documents, research outline, a letter of financial need statement, and a declaration statement are all required to apply for the scholarship. Applicants submit this information through Grants.gov system. This information is used for the review and selection of the individuals who will receive scholarship funds.

Selected awardees will also be requested to prepare a biographical sketch and photograph for NOAA's scholarship web page. Awardees are requested to prepare annual progress reports and participate in pre- and post-evaluations and one exit interview.

II. Method of Collection

Information for the application is collected through an application submission, either electronically through the Grants.gov platform or if internet is not available, applicants may submit applications via mail. Information from selected awardees is collected orally.

III. Data

OMB Control Number: 0648-0432.

Form Number(s): None.

Type of Review: Regular (extension of an approved collection).

Affected Public: Individuals.

Estimated Number of Respondents: 190.

Estimated Time per Response: Application and transcripts: 8 hours; Letters of recommendation: 45 minutes; Biographical sketch and photograph of awardees: 1 hour; Annual progress reports: 4 hours; Pre- and post-evaluations and exit interview: 10 minutes each.

Estimated Total Annual Burden Hours: 570 burden hours.

Estimated Total Annual Cost to Public: $3,800.

Respondent's Obligation: Voluntary.

Legal Authority: 16 U.S.C. 1445c-1 and 16 U.S.C. 1445c.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2023-20282 Filed 9-18-23; 8:45 am]

BILLING CODE 3510-NK-P